DEPARTMENT OF DEFENSE

GENERAL SERVICES ADMINISTRATION

NATIONAL AERONAUTICS AND SPACE ADMINISTRATION

48 CFR Parts 25 and 52

[FAC 2005-07; FAR Case 2005-026; Item VIII]

RIN 9000-AK37

Federal Acquisition Regulation; Removal of Sanctions Against Libya

AGENCIES: Department of Defense (DoD), General Services Administration (GSA), and National Aeronautics and Space Administration (NASA).

ACTION: Final rule.

SUMMARY: The Civilian Agency Acquisition Council and the Defense Acquisition Regulations Council (Councils) have agreed on a final rule amending the Federal Acquisition Regulation (FAR) to implement Executive Order 13357, which removed sanctions against Libya.

DATES: Effective Date: February 2, 2006.

FOR FURTHER INFORMATION CONTACT: For clarification of content, contact Ms. Kimberly Marshall, Procurement Analyst, at (202) 219-0986. Please cite FAC 2005-07, FAR case 2005-026. For information pertaining to status or publication schedules, contact the FAR Secretariat at (202) 501-4755.

SUPPLEMENTARY INFORMATION:

A. Background

This final rule amends FAR Subpart 25.7, Prohibited Sources, and the clause at 52.225-13, Restrictions on Certain Foreign Purchases, by removing Libya from the list of countries sanctioned by the Department of the Treasury, Office of Foreign Assets Control (OFAC).

On September 20, 2004, the President signed Executive Order 13357 terminating the national emergency declared in Executive Order 12543 of January 7, 1986, with respect to the policies and actions of the Government of Libya and revoking that Order, as well as revoking Executive Order 12544 of January 8, 1986, and Executive Order 12801 of April 15, 1992, all of which imposed sanctions against Libya in response to the national emergency. This Executive Order 13357 also revoked Executive Order 12538 of November 15, 1985, which prohibited the importation into the United States of petroleum products refined in Libya. Upon issuance of Executive Order 13357, OFAC issued notice that the prohibitions of the Libyan Sanctions Regulations, 31 CFR part 550, would be lifted as of September 21, 2004. OFAC has confirmed that there are no more sanctions against Libya. At a later date, OFAC will add a note to the Libya Sanction Regulations (LSR) to notify the public that those regulations are no longer in effect. In their view, Executive Order 13357, their issuance of a press release, and a statement on their official website that the regulations lifted are sufficient authorization until they publish a notice in the Federal Register.

This final rule also makes conforming changes to the clause dates in the clauses at 52.212-5, Contract Terms and Conditions Required to Implement Statutes or Executive Orders-Commercial Items, and 52.213-4, Terms and Conditions-Simplified Acquisition (Other than Commercial Items), and updates the OFAC websites.

This is not a significant regulatory action and, therefore, was not subject to review under Section 6(b) of Executive Order 12866, Regulatory Planning and Review, dated September 30, 1993. This rule is not a major rule under 5 U.S.C. 804.

B. Regulatory Flexibility Act

The Regulatory Flexibility Act does not apply to this rule. This final rule does not constitute a significant FAR revision within the meaning of FAR 1.501 and Public Law 98-577, and publication for public comments is not required. However, the Councils will consider comments from small entities concerning the affected FAR Parts 25 and 52 in accordance with 5 U.S.C. 610. Interested parties must submit such comments separately and should cite 5 U.S.C. 601, et seq. (FAC 2005-07, FAR case 2005-026), in correspondence.

C. Paperwork Reduction Act

The Paperwork Reduction Act does not apply because the changes to the FAR do not impose information collection requirements that require the approval of the Office of Management and Budget under 44 U.S.C. 3501, et seq.

List of Subjects in 48 CFR Parts 25 and 52

Government procurement.

Dated: December 22, 2005.
Gerald Zaffos,
Director, Contract Policy Division.

Therefore, DoD, GSA, and NASA amend 48 CFR parts 25 and 52 as set forth below:

1. The authority citation for 48 CFR parts 25 and 52 continues to read as follows:

Authority: 40 U.S.C. 121(c); 10 U.S.C. chapter 137; and 42 U.S.C. 2473(c).

PART 25—FOREIGN ACQUISITION

25.701 [Amended]

2. Amend section 25.701 by removing from the first sentence of paragraph (b) “Libya,”; removing from the second sentence “http://www.epls.gov/TerList1.html” and adding “http://www.treas.gov/offices/enforcement/ofac/sdn” in its place; and removing from the third sentence “http://www.treas.gov/ofac” and adding “http://www.treas.gov/offices/enforcement/ofac” in its place.

PART 52—SOLICITATION PROVISIONS AND CONTRACT CLAUSES

52.212-5 [Amended]

3. Amend section 52.212-5 by removing from the heading of the clause “(SEP 2005)” and adding “(FEB 2006)” in its place; and removing from paragraph (b)(26) of the clause “(MAR 2005)” and adding “(FEB 2006)” in its place.

52.213-4 [Amended]

4. Amend section 52.213-4 by—

a. Removing from the heading of the clause “(JUL 2005)” and adding “ (FEB 2006)”in its place; and

b. Removing from paragraph (a)(1)(iv) of the clause “(MAR 2005)” and adding “(FEB 2006)” in its place.

52.225-13 [Amended]

5. Amend section 52.225-13 by—

a. Removing from the heading of the clause “(MAR 2005)” and adding “(FEB 2006) ”in its place; and

b. Removing from the first sentence of paragraph (b) of the clause “Libya,”; removing from the second sentence “http://epls.arnet.gov/News.html” and adding “http://www.treas.gov/offices/enforcement/ofac/sdn” in its place; and removing from the third sentence “http://www.treas.gov/ofac” and adding “http://www.treas.gov/offices/enforcement/ofac” in its place.

[FR Doc. 05-24553 Filed 12-30-05; 8:45 am]

BILLING CODE 6820-EP-S